DEPARTMENT OF THE INTERIOR

National Park Service

[NPS-WASO-NAGPRA-NPS0034106; PPWOCRADN0-PCU00RP14.R50000]

Notice of Intent To Repatriate Cultural Items: American Numismatic Society, New York, NY

AGENCY: National Park Service, Interior.

ACTION: Notice.

SUMMARY: The American Numismatic Society (the “Museum”), in consultation with the appropriate Indian Tribes or Native Hawaiian organizations, has determined that the cultural item listed in this notice meets the definition of an unassociated funerary object and an object of cultural patrimony. Lineal descendants or representatives of any Indian Tribe or Native Hawaiian organization not identified in this notice that wish to claim this cultural item should submit a written request to the Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Museum at the address in this notice by July 27, 2022.

FOR FURTHER INFORMATION CONTACT: Dr. Gilles Bransbourg, Executive Director, American Numismatic Society, 75 Varick Street, 11th Floor, New York, NY 10013, telephone (212) 571-4470, email gbransbourg@numismatics.org.

SUPPLEMENTARY INFORMATION: Notice is hereby given in accordance with the Native American Graves Protection and Repatriation Act (NAGPRA), 25 U.S.C. 3005, of the intent to repatriate a cultural item under the control of the American Numismatic Society, New York, NY, that meets the definition of an unassociated funerary object and an object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In or around 1912, one cultural item was removed from a Pawnee burial site in Nance County, NE. In 1913, the item was published by A.G. Parker in The Numismatist (vol. 26, p. 132), who wrote that it was “recently found at Genoa, Neb., by John Vaught, a man employed by the village of Genoa to repair the water works reservoir. . . . The hill referred to was at one time used as a burying ground by the Pawnee Indians. . . .” In 1915, William Poillon, Edward T. Newell, and Thomas L. Elder donated the item to the Museum.

The one unassociated funerary object and object of cultural patrimony is a silver medal issued by the United States Mint with a right-side profile image of Abraham Lincoln, with the following text on the obverse: “ABRAHAM LINCOLN, PRESIDENT OF THE UNITED STATES 1862.” On the reverse is a central vignette of a rural scene, encircled by a scalping scene flanked by a quiver of arrows, a bow, a tomahawk, and the head of a woman.

By letter dated January 4, 2022, the Museum informed the Pawnee Nation of Oklahoma (the “Pawnee Nation”) of the discovery of this item in the Museum's collection and its apparent affiliation with the Pawnee Nation. On February 2, 2022, the Museum met with the President of the Pawnee Nation to discuss the item.

By letter dated February 8, 2022, the Pawnee Nation requested repatriation of the item as an unassociated funerary object and/or as an object of cultural patrimony, emblematic of the military and diplomatic history of the Pawnee Nation in the nineteenth century and in particular during the Indian Wars on the Great Plains, when the Pawnee Nation was a military ally of the United States.

Determinations Made by the American Numismatic Society

Officials of the American Numismatic Society have determined that:

• Pursuant to 25 U.S.C. 3001(3)(B), the one cultural item described above is reasonably believed to have been placed with or near the human remains of a Native American at the time of death or later as part of the death rite or ceremony of the Pawnee Nation of Oklahoma and is believed, by a preponderance of the evidence, to have been removed from the burial site of a Native American individual.

• Pursuant to 25 U.S.C. 3001(3)(D), the one cultural item described above has an ongoing historical, traditional, or cultural importance central to the Native American group or culture itself, rather than property owned by an individual.

• Pursuant to 25 U.S.C. 3001(2), there is a relationship of shared group identity that can be reasonably traced between the unassociated funerary object and object of cultural patrimony and the Pawnee Nation of Oklahoma.

Additional Requestors and Disposition

Lineal descendants or representatives of any Indian Tribe or Native Hawaiian organization not identified in this notice that wish to claim this cultural item should submit a written request with information in support of the claim to Dr. Gilles Bransbourg, Executive Director, American Numismatic Society, 75 Varick Street, 11th Floor, New York, NY 10013, telephone (212) 571-4470, email gbransbourg@numismatics.org, by July 27, 2022. After that date, if no additional claimants have come forward, transfer of control of the unassociated funerary object and object of cultural patrimony to the Pawnee Nation of Oklahoma may proceed.

The American Numismatic Society is responsible for notifying the Pawnee Nation of Oklahoma that this notice has been published.

Dated: June 10, 2022.
Melanie O'Brien,
Manager, National NAGPRA Program.

[FR Doc. 2022-13619 Filed 6-24-22; 8:45 am]

BILLING CODE 4312-52-P